ENVIRONMENTAL PROTECTION AGENCY

[EPA-HQ-RCRA-2007-0387; FRL-8499-1]

Agency Information Collection Activities; Submission to OMB for Review and Approval; Comment Request; Hazardous Waste Specific Unit Requirements, and Special Waste Processes and Types (Renewal), EPA ICR Number 1572.07, OMB Control Number 2050-0050

AGENCY: Environmental Protection Agency (EPA).

ACTION: Notice.

SUMMARY: In compliance with the Paperwork Reduction Act (PRA)(44 U.S.C. 3501, et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 27, 2007.

ADDRESSES: Submit your comments, referencing Docket ID No. EPA-HQ-RCRA-2007-0387, to (1) EPA, either online using www.regulations.gov (our preferred method), or by e-mail to rcra-docket@epa.gov, or by mail to: RCRA Docket (2822T), U.S. Environmental Protection Agency, 1200 Pennsylvania Avenue, NW., Washington, DC 20460; and (2) OMB, by mail to: Office of Information and Regulatory Affairs, Office of Management and Budget (OMB), Attention: Desk Officer for EPA, 725 17th Street, NW., Washington, DC 20503.

FOR FURTHER INFORMATION CONTACT: Norma Abdul-Malik, Office of Solid Waste (5303P), Environmental Protection Agency, 1200 Pennsylvania Ave., NW., Washington, DC 20460; telephone number: 703-308-8753; fax number: 703-308-8617; e-mail address: abdul-malik.norma@epa.gov.

SUPPLEMENTARY INFORMATION: EPA has submitted the following ICR to OMB for review and approval according to the procedures prescribed in 5 CFR 1320.12. On June 11, 2007 (72 FR 32093), EPA sought comments on this ICR pursuant to 5 CFR 1320.8(d). EPA received no comments. Any additional comments on this ICR should be submitted to EPA and OMB within 30 days of this notice.

EPA has established a public docket for this ICR under Docket ID No. EPA-HQ-RCRA-2007-0387, which is available for online viewing at www.regulations.gov, or in person viewing at the Resource Conservation and Recovery Act (RCRA) Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the RCRA Docket is (202) 566-0270.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

Title: Hazardous Waste Specific Unit Requirements, and Special Waste Processes and Types (Renewal).

ICR numbers: EPA ICR No. 1572.07, OMB Control No. 2050-0050.

ICR Status: This ICR is scheduled to expire on November 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR provides a discussion of all of the information collection requirements associated with specific unit standards applicable to owners and operators of facilities that treat, store, or dispose of hazardous wastes as defined by 40 CFR part 261. It includes a detailed description of the data items and respondent activities associated with each requirement and with each hazardous waste management unit at a facility. The specific units and processes included in this ICR are: Tank systems, Surface impoundments, Waste piles, Land treatment, Landfills, Incinerators, Thermal treatment , Chemical, physical, and biological treatment, Miscellaneous (subpart X), Drip pads, Process vents, Equipment leaks , Containment buildings, Recovery/recycling.

With each information collection covered in this ICR, EPA is aiding the goal of complying with its statutory mandate under RCRA to develop standards for hazardous waste treatment, storage, and disposal facilities, to protect human health and the environment. Without the information collection, the agency cannot assure that the facilities are designed and operated properly.

Burden Statement: The annual public reporting and recordkeeping burden for this collection of information is estimated to average as follows:

Unit type | Hours per response
Subpart I: Containers | 73
Subpart J: Tank Systems | 74
Subpart K: Surface Impoundments | 78
Subpart L: Waste Piles | 17
Subpart M: Land Treatment | 0
Subpart N: Landfills | 37
Subpart O: Incinerators | 3
Subpart W: Drip Pads | 0
Subpart X: Miscellaneous Units | 0
Subpart AA: Process Vents | 400
Subpart BB: Equipment Leaks | 4
Subpart DD: Containment Buildings | 27

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Private sector and State, Local, or Tribal governments.

Estimated Number of Respondents: 3,326.

Frequency of Response: On occasion.

Estimated Total Annual Hour Burden: 626,476.

Estimated Total Annual Cost: $27,289,816, which includes $23,349,024 annualized labor and $3,940,793 annualized capital and O&M costs.

Changes in the Estimates: There is a decrease of 42,098 hours in the total estimated burden currently identified in the OMB Inventory of Approved ICR Burdens. This decrease is due to the decrease in the number of respondents, which is based on more accurate, current data.

Dated: November 19, 2007.
Joseph A. Sierra,
Acting Director, Collection Strategies Division.

[FR Doc. E7-23057 Filed 11-26-07; 8:45 am]

BILLING CODE 6560-50-P